DEPARTMENT OF AGRICULTURE

Forest Service

Notice of Proposed New Fee Site; Federal Lands Recreation Enhancement Act, (Title VIII, Pub. L. 108-447)

AGENCY: Salmon-Challis National Forest, USDA Forest Service.

ACTION: Notice of proposed new fee site.

SUMMARY: The Salmon-Challis National Forest is proposing to charge fee at the Copper Basin Guard Station. This cabin includes a $100/night fee and would be available for rental from June 1 to September 30. Fees are proposed based on the level of amenities and services provided, cost of operations and maintenance, and market assessment. The fee will be determined upon further analysis and public comment. An analysis of nearby rental cabins with similar amenities shows that the proposed fees are reasonable and typical of similar sites in the area. Funds from fees would be used for the continued operation and maintenance and improvements of these rental cabins.

DATES: Comments will be accepted through August 1, 2015. New fees would begin May 2016.

ADDRESSES: Charles A. Mark, Forest Supervisor, Salmon-Challis National Forest, 1206 S. Challis Street, Salmon, ID 83467.

FOR FURTHER INFORMATION CONTACT: Trish Callaghan, Recreation Fee Coordinator, 208-756-5115. Information about proposed fee changes can also be found on the Salmon-Challis National Forest Web site: http://www.fs.usda.gov/scnf.

SUPPLEMENTARY INFORMATION: The Federal Recreation Lands Enhancement Act (Title VII, Pub. L. 108-447) directed the Secretary of Agriculture to publish a six month advance notice in the Federal Register whenever new recreation fee areas are established.

Once public involvement is complete, these new fees will be reviewed by a Recreation Resource Advisory Committee prior to a final decision and implementation. People wanting reserve these cabins would need to do so through the National Recreation Reservation Service, at www.recreation.gov or by calling 1-877-444-6777 when it becomes available.

Dated: February 20, 2015.
Charles A. Mark,
Forest Supervisor.

[FR Doc. 2015-05086 Filed 3-4-15; 8:45 am]

BILLING CODE 3411-15-P